DEPARTMENT OF COMMERCE

National Oceanic and Atmospheric Administration

[Docket No. 070717342-7713-02]

RIN 0648-XS19

Magnuson-Stevens Fishery Conservation and Management Act Provisions; Fisheries of the Northeastern United States; Atlantic Surfclam and Ocean Quahog Fishery; 2010 Fishing Quotas for Atlantic Surfclams and Ocean Quahogs

AGENCY: National Marine Fisheries Service (NMFS), National Oceanic and Atmospheric Administration (NOAA), Commerce.

ACTION: Notice.

SUMMARY: NMFS is announcing that the quotas for the Atlantic surfclam and ocean quahog fisheries for 2010 remain status quo. Regulations governing these fisheries require NMFS to notify the public in the Federal Register of the allowable harvest levels for Atlantic surfclams and ocean quahogs from the Exclusive Economic Zone if the previous year's quota specifications remain unchanged.

ADDRESSES: Written inquiries may be sent to: Regional Administrator, National Marine Fisheries Service, Northeast Regional Office, 55 Great Republic Drive, Gloucester, MA 01930-2298.

FOR FURTHER INFORMATION CONTACT: Anna Macan, Fishery Management Specialist, (978) 281-9177; fax (978) 281-9135.

SUPPLEMENTARY INFORMATION: The fishery management plan for the Atlantic surfclam and ocean quahog fisheries requires that NMFS issue notification in the Federal Register of the upcoming year's quota, even in cases where the quota remains unchanged from the previous year. At its June 2009 meeting, the Mid-Atlantic Fishery Management Council voted that no action be taken to change the quota specifications for Atlantic surfclams and ocean quahogs for the 2010 fishing year (January 1 through December 31, 2010), and recommended maintaining the 2008 quota levels of 3.4 million bu (181 million L) for Atlantic surfclams, 5.333 million bu (284 million L) for ocean quahogs, and 100,000 Maine bu (3.524 million L) for Maine ocean quahogs, as announced in the Federal Register on January 4, 2008 (73 FR 820).

Authority: 16 U.S.C. 1801 et seq.

Dated: October 16, 2009.
Emily H. Menashes,
Acting Director, Office of Sustainable Fisheries, National Marine Fisheries Service.

[FR Doc. E9-25466 Filed 10-21-09; 8:45 am]

BILLING CODE 3510-22-S